EXPORT-IMPORT BANK

Intent To Conduct a Detailed Economic Impact Analysis

AGENCY: Export-Import Bank.

ACTION: Notice.

SUMMARY: Pursuant to the Charter of the Export-Import Bank of the United States, this notice is to inform the public that the Export-Import Bank of the United States has received an application for $39.8 million in medium-term insurance to support the export of approximately $45.7 million worth of U.S. aluminum beverage cans and ends manufacturing equipment to Brazil. The U.S. exports will enable the Brazilian company to expand its existing production by 3 billion aluminum cans per year and 2.8 billion aluminum can ends per year. New production will be sold in Brazil.

DATES: Comments are due 14 days from publication in the Federal Register.

ADDRESSES: Interested parties may submit comments on this transaction electronically on www.regulations.gov, or by email to economic.impact@exim.gov.

Eric Larger,
Office of Policy Analysis and International Relations.

[FR Doc. 2022-13826 Filed 6-28-22; 8:45 am]

BILLING CODE 6690-01-P